DEPARTMENT OF THE TREASURY

Agency Information Collection Activities; Submission for OMB Review; Comment Request; Bureau of Fiscal Service Information Collection Request

AGENCY: Departmental Offices, U.S. Department of the Treasury.

ACTION: Notice of Information Collection; request for comment.

SUMMARY: The Department of the Treasury will submit the following information collection requests to the Office of Management and Budget (OMB) for review and clearance in accordance with the Paperwork Reduction Act of 1995, on or after the date of publication of this notice. The public is invited to submit comments on these requests.

DATES: Comments should be received on or before May 20, 2024 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Melody Braswell by emailing PRA@treasury.gov, calling (202) 622-1035, or viewing the entire information collection request at www.reginfo.gov.

SUPPLEMENTARY INFORMATION:

Bureau of the Fiscal Service (BFS)

Title: Treasury Hunt Follow-Up.

OMB Number: 1530-New.

Form Number: FS Form 000140.

Abstract: The information is requested to verify a user's claim and process any associated transactions when a potential match is identified by using the Treasury Hunt online search tool to search for unredeemed bonds and holdings.

Current Actions: New collection.

Type of Review: Regular.

Affected Public: Individuals and Households.

Estimated Number of Respondents: 20,000.

Estimated Time per Respondent: 10 minutes.

Estimated Total Annual Burden Hours: 3,333.

(Authority: 44 U.S.C. 3501 et seq.)

Melody Braswell,
Treasury PRA Clearance Officer.

[FR Doc. 2024-08360 Filed 4-18-24; 8:45 am]

BILLING CODE 4810-AS-P